DEPARTMENT OF DEFENSE

Office of the Secretary

[Docket ID: DoD-2014-OS-0150]

Privacy Act of 1974; System of Records

AGENCY: Defense Finance and Accounting Service, DoD.

ACTION: Notice to alter a system of records.

SUMMARY: The Defense Finance and Accounting Service proposes to alter a system of records, T-7340d, entitled “Defense Military Pay Office Input and Reporting System” in its inventory of record systems subject to the Privacy Act of 1974, as amended. This system provides a user-friendly computer application that provides input and reporting capabilities for the Defense Joint Military Pay Account Systems, Active, and Reserve Component. DFAS and the military Finance Offices use this system to input transactions into, and pull report data from the Master Military Pay Account (MMPA) record that is maintained for each military member.

DATES: Comments will be accepted on or before December 17, 2014. This proposed action will be effective on the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Gregory L. Outlaw, Defense Finance and Accounting Service, Freedom of Information/Privacy Act Program Manager, Corporate Communications, DFAS-HKC/IN, 8899 E. 56th Street, Indianapolis, IN 46249-0150 or at (317) 212-4591.

SUPPLEMENTARY INFORMATION: The Defense Finance and Accounting Service notices for systems of records subject to the Privacy Act of 1974 (5 U.S.C. 552a), as amended, have been published in the Federal Register and are available from the address in FOR FURTHER INFORMATION CONTACT or from the Defense Privacy and Civil Liberties Office Web site at http://dpclo.defense.gov/.

The proposed system report, as required by 5 U.S.C. 552a(r) of the Privacy Act of 1974, as amended, was submitted on November 12, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 12, 2014.
Aaron Siegel,
Alternate OSD Federal Register Liaison Officer, Department of Defense.

T-7340d

System name:

Defense Military Pay Office Input and Reporting System (May 19, 2008, 73 FR 28800).

Changes:

System Id:

Delete entry and replace with “T7340d”

System name:

Delete entry and replace with “Defense MilPay Office (DMO)/Defense MilPay Repository (DMR)”.

System location:

Delete entry and replace with “Defense Finance and Accounting Service, Civilian Pay Payroll Office, 1240 East 9th Street, Cleveland, OH 44199-2055.

Defense Finance and Accounting Service, Civilian Pay Payroll Office, 8899 E. 56th St., Indianapolis, IN 46249-0001.”

Categories of individuals covered by the system:

Delete entry and replace with “All active duty and reserve military members, National Guard members, and military service academy students.”

Categories of records in the system:

Delete entry and replace with “Individual's full name, Social Security Number (SSN), wages, tax summaries, leave and earnings statements.”

* * * * *

Purpose(s):

Delete entry and replace with “Provides a user-friendly computer application that provides input and reporting capabilities for the Defense Joint Military Pay Account Systems, Active, and Reserve Component. DFAS and the military Finance Offices use this system to input transactions into, and pull report data from the Master Military Pay Account (MMPA) record that is maintained for each military member.”

* * * * *

Storage:

Delete entry and replace with “Electronic storage media”.

* * * * *

Safeguards:

Delete entry and replace with “Records are maintained in a controlled facility. Physical entry is restricted by the use of locks, guards, and is accessible only to authorized personnel. Access to records is limited to person(s) responsible for servicing the record in the performance of their official duties and who are properly screened and cleared for need-to-know. Access to computerized data is limited to CAC enabled users and restricted by passwords, which are changed according to agency security policy.”

Retention and disposal:

Delete entry and replace with “Military Pay Input Transaction records may be temporary in nature and destroyed when actions are completed, they are superseded, obsolete, or no longer needed. Source data records may be cut off at the end of the payroll year and destroyed 6 years and 3 months after cutoff.”

System manager(s) and address:

Delete entry and replace with “Defense Finance and Accounting Service—Cleveland, Defense Military Pay Office (DMO) System Manager, 1240 East 9th Street, Cleveland, OH 44199-2005.”

Notification procedure:

Delete entry and replace with “Individuals seeking to determine whether information about themselves is contained in this record system should address written inquiries to the Defense Finance and Accounting Service, Freedom of Information/Privacy Act Program Manager, Corporate Communications, DFAS-ZCF/IN, 8899 E. 56th Street, Indianapolis, IN 46249-0150.

Requests should contain individual's full name, SSN for verification, current address for reply, and provide a reasonable description of what they are seeking.”

Record access procedures:

Delete entry and replace with “Individuals seeking access to information about themselves contained in this record system should address written inquiries to Defense Finance and Accounting Service, Freedom of Information/Privacy Act Program Manager, Corporate Communications, DFAS-ZCF/IN, 8899 E. 56th Street, Indianapolis, IN 46249-0150.

Requests should contain individual's full name, SSN for verification, current address for reply, and telephone number.”

Contesting record procedures:

Delete entry and replace with “The Defense Finance and Accounting Service (DFAS) rules for accessing records, for contesting contents and appealing initial agency determinations are published in Defense Finance and Accounting Service Regulation 5400.11-R, 32 CFR 324; or may be obtained from the Defense Finance and Accounting Service, Freedom of Information/Privacy Act Program Manager, Corporate Communications, DFAS-ZCF/IN, 8899 E. 56th Street, Indianapolis, IN 46249-0150.”

Record source categories:

Delete entry and replace with “From the individual, Army, Navy, Air Force, Reserve and National Guard military pay finance offices and military academies.”

* * * * *

[FR Doc. 2014-27166 Filed 11-14-14; 8:45 am]

BILLING CODE 5001-06-P